DEPARTMENT OF HEALTH AND HUMAN SERVICES

Administration for Children and Families

Submission for OMB Review; Comment Request

Title: Provision of Services in Interstate Child Support Enforcement: Standard Forms.

OMB No.: 0970-0085.

Description: Pub. L. 104-193, the Personal Responsibility and Work Opportunity Reconciliation Act of 1996, amended 42 U.S.C. 666 to require State Child Support Enforcement (CSE) agencies to enact the Uniform Interstate Family Support Act (UIFSA) into State law by January 1, 1998. Section 311(b) of UIFSA requires the States to use standard interstate forms, as mandated by Federal law. 45 CFR 303.7 also requires CSE programs to transmit child support case information on standard interstate forms when referring cases to other States for processing. During the OMB clearance process, we are taking the opportunity to make revisions that have been requested by the States.

Respondents: State agencies administering the Child Support Enforcement program under title IV-D of the Social Security Act.

Annual Burden Estimates:

Instrument | Number of respondents | Number of responses per respondent | Average burden hours per response | Total burden hours
Transmittal 1 | 54 | 19,278 | .25 | 260,253
Transmittal 2 | 54 | 14,458 | .08 | 62,459
Transmittal 3 | 54 | 964 | .08 | 4,164
Uniform Petition | 54 | 9,639 | .08 | 41,640
General Testimony | 54 | 11,567 | .33 | 206,124
Affidavit Paternity | 54 | 4,819 | .17 | 44,238
Locate Data Sheet | 54 | 375 | .08 | 1,620
Notice of Controlling Order | 54 | 964 | .08 | 4,164
Registration Statement | 54 | 8,675 | .08 | 37,476

Estimated Total Annual Burden Hours: 662,138.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address:Katherine_T._/Astrich@omb.eop.gov.

Dated: October 27, 2004.
Robert Sargis,
Reports Clearance Officer.

[FR Doc. 04-24601 Filed 11-3-04; 8:45 am]

BILLING CODE 4184-01-M